FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Procurement Solicitation Package (FR 1400; OMB No. 7100-0180).

DATES: The revisions are effective March 7, 2025.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 1400.

Final Approval Under OMB Delegated Authority of the Extension for Three Years, With Revision, of the Following Information Collection

Collection title: Procurement Solicitation Package.

Collection identifier: FR 1400.

OMB control number: 7100-0180.

General description of collection: The Board uses the Procurement Solicitation Package, which includes a supplier database and solicitation documents as appropriate, to assist in the competitive process of soliciting proposals from suppliers of goods and services. The Procurement Solicitation Package includes the Supplier Registration System (FR 1400A), the Solicitation Package (Solicitation, Offer, and Award Form; Supplier Information Form; Past Performance Data Sheet; and Past Performance Questionnaire) (FR 1400B), the Supplier Risk Management Offeror Questionnaire (FR 1400C), and the Subcontracting Report (FR 1400D). The information collected through the Procurement Solicitation Package is necessary for Board staff to fairly and accurately evaluate the merits of suppliers' proposals, to select the proposal most advantageous to the Board, taking into account price and other key factors, and to award and administer contracts after a supplier has been selected.

Frequency: FR 1400A/FR 1400B/FR 1400C/FR 1400E, event-generated; FR 1400D, semiannual.

Respondents: Businesses and individuals.

Total estimated number of respondents: 550.

Estimated average hours per response: FR 1400A, 0.67; FR 1400B, 81; FR 1400C, 7.6; FR 1400D, 0.7; FR 1400E, 0.45.

Total estimated change in burden: 27 hours.

Total estimated annual burden hours: 24,979.

Current actions: On September 30, 2024, the Board published a notice in the Federal Register (89 FR 79590) requesting public comment for 60 days on the extension, with revision, of the FR 1400. The Board proposed to clear a new, event-generated form, the Contractor Conflict of Interest Screening (FR 1400E). The FR 1400E will be used to screen potential contractors that would be conducting research pertaining to the Board's mission (e.g., monetary policy, financial stability, or supervision and regulation) and/or have access to sensitive Board information such as confidential supervisory information, in order to determine if they have any conflict of interests. The comment period for this notice expired on November 29, 2024. The Board did not receive any comments. The revisions will be implemented as proposed.

Board of Governors of the Federal Reserve System, January 31, 2025.
Benjamin W. McDonough,
Deputy Secretary and Ombuds of the Board.

[FR Doc. 2025-02258 Filed 2-4-25; 8:45 am]

BILLING CODE 6210-01-P